DEPARTMENT OF HEALTH AND HUMAN SERVICES

Indian Health Service

Organization and Functional Statement; Part GFG; California Area Office; Proposed Functional Statement

Part G, of the Statement of Organization, Functions, and Delegations of Authority of the Department of Health and Human Services (HHS), as amended most recently at 63 FR 1486, January 9, 1998, is hereby amended to reflect a realignment of the California Area Indian Health Service.

The California Area Indian Health Service (CAIHS) provides the healthcare delivery system to the State of California, the home of the largest population of American Indians/Alaska Natives (AI/AN) in the country. According to the 2010 Census, California's Indian population was 333,346 in 2010. The 2010 Census also indicated that there were 294,216 additional people who stated that they were American Indian and a combination of one or more other races. California is home to 107 Federally-recognized Tribes. There are presently 31 California Tribal health programs operating 57 ambulatory clinics under the authority of the Indian Self-Determination Act. The IHS funds ten California Area urban health programs that operate under the authority of the Indian Health Care Improvement Act. In fiscal year 2014, California Tribal health programs had 119,362 registered users and 69,238 active users. Registered users are a cumulative total for all Indian patients ever seen at Tribal facilities, and active users are those that have accessed care during the past three years. None of the Tribal facilities and programs currently operating in California originated as facilities previously operated by the IHS, as is the case in other IHS areas. Population sizes and dispersion of Tribal groups in the CAIHS makes it unlikely that a hospital-based service program will develop within the area, similar to other IHS areas where the Federal government has built, staffed and maintained hospitals and satellite clinics on Indian reservations. Tribal programs will continue to rely on private and public hospitals to meet inpatient and emergency needs. Some Tribal health program physicians have privileges at local hospitals and follow their patients through the local hospital system. Otherwise, the patients are referred to private physicians using Purchased Referred Care (PRC) funding, as well as other alternate resources. Most programs have not developed laboratory, pharmacy or x-ray specialties, so these services are purchased from the private sector through PRC funding or other Tribal resources. The CAIHS is proposed to be organized as follows:

Office of the Area Director (GFGA)

Provides overall direction and leadership for the CAIHS by: (1) Encouraging maximum consultation and participation by California area Tribes and Tribal and urban Indian organizations in establishing the goals, objectives and development of policies of the CAIHS; (2) coordinating the CAIHS activities and resources internally and externally with those of other Federal, state, local and privately funded health care programs to maximize quality health care services to Tribal and urban Indians in the State of California; (3) ensuring compliance to the IHS guidelines and administrative procedures pertinent to Indian self-determination contracting processes and Tribal self-governance compacting; (4) assuring that Indian Tribes and Indian organizations are informed regarding pertinent health policy and program management issues and coordinates meetings and other communications with Tribal delegations; (5) advocating for the health needs and concerns of AI/AN; (6) developing and demonstrating methods and techniques for continuous improvement of health services management and delivery by California area Tribes and Tribal and urban Indian organizations; (7) ensuring that the principles of Equal Employment Opportunity laws and the Civil Rights Act are applied in the management of the human resources of the CAIHS; (8) advising the Director, IHS, of issues and potential issues, relevant to the California area, or to the IHS in general, and recommending and participating in actions to prevent or correct problems; (9) providing leadership for the development of emergency preparedness plans, policies, and services, including the continuity of operations plans, deployment, public health infrastructure, and emergency medical services for the CAIHS responsibilities; and (10) advocating and coordinating support for Tribal emergency medical services programs, including training and equipment.

Office of Management Support (GFGAB)

(1) Provides advice to the Area Director and functional area managers on CAIHS administrative and management policy and procedures requirements, delegations of authority, documenting the organizations and functions of the CAIHS, personnel administration and management, and agency agreements management; (2) develops, recommends and implements processes for management accountability and the periodic assessment of managerial performance; (3) provides guidance and support to area managers regarding resources, personal property, acquisition management; (4) provides a full complement of administrative services in support of the Area-wide health services delivery and management systems, i.e., forms management, travel management, communications management, supply management, printing, mail management, etc.; (5) advises the Area Director and functional area managers on the civil service and commissioned corps personnel programs' administration and management requirements; (6) directs the personnel security and suitability clearance, and other ethics in employment programs; and (7) provides advice, consultation, and assistance to Tribal officials and Tribal organizations on Tribal health program personnel policy issues.

Financial Management Division (GFGAB1)

(1) Performs fund reconciliations and assists in coordination of discrepancies with financial officials; (2) provides support and technical assistance to area operational components in the development of area operations budgets; (3) provides fund certification and maintains commitment registers for area components; (4) supports cost accounting activities in IHS; (5) develops and implements budget, fiscal, and accounting procedures and conducts reviews and analyses to ensure compliance in budget activities in collaboration with Headquarters officials and the Tribes; and (6) participates in cross-cutting issues and processes including, but not limited to emergency preparedness/security, budget formulation, self-determination issues, Tribal shares computations, and resolution of audit findings as may be needed and appropriate.

Acquisition Management Division (GFGAB2)

(1) Develops, recommends, and oversees the implementation of policies, procedures and delegations of authority for the acquisition management activities in the CAIHS, consistent with applicable regulations, directives, and guidance from higher echelons in the Department of Health and Human Services and Federal oversight agencies; (2) provides advice, technical consultation, and training to California area managers and staff; (3) reviews and makes recommendations for approval/disapproval of contract-related documents such as: Pre- and post-award documents, unauthorized commitments, procurement planning documents, Justification for Other Than Full and Open Competition, waivers, and deviations; (4) executes and administers contracts for the CAIHS; and (5) reviews, recommends, and issues delegations of acquisition authority in the CAIHS.

Office of Public Health (GFGAC)

(1) Provides leadership and consultation to Tribal and urban public health programs on the IHS goals, objectives, policies, program standards, and priorities; (2) serves as the primary source of technical and policy advice to the Area Director, area office staff, and Tribal and urban health program officials on the full scope of clinical health care programs, including their quality assurance and preventive aspects, and tort claims; (3) participates in identifying and articulating the health needs of the AI/AN population in the State of California; (4) coordinates the availability and accessibility of Medicare and Medicaid programs, and other managed care programs' services, to AI/AN in the State of California; (5) provides consultation and technical support to Tribal and urban public health programs including, but not limited to, dental services, diabetes and other chronic disease prevention, nutrition services, and nursing services, alcohol/substance abuse prevention and treatment, including the coordination of the Youth Regional Treatment Center services; (6) provides assistance in the development and implementation of area policy and procedures regarding managed care services, third-party collections and reimbursements, health care facility accreditation, risk management and quality assurance; (7) coordinates the reimbursement of allowable costs for qualified high cost PRC service cases from the IHS Catastrophic Health Emergency Fund to Tribal health care programs in the State of California; (8) serves as project officer on contracts awarded in the State of California for the delivery of health care services, and coordinates activities for monitoring and evaluating contractor performance; (9) provides advice to the Area Director on the activities and issues related to the implementation of Title V of the American Indian Health Care Improvement Act, as amended, in the State of California; (10) provides support to urban Indian health programs and organizations in managing health programs and attending financial and other types of support available from other public and private agencies and organizations, and (11) designs, maintains, and controls the data collection, analysis, and publication of health program information in the activities.

Information Technology Division (GFGAC1)

(1) Develops, implements, and maintains policies, procedures and standards for information resource management and technology products and services in the CAIHS; (2) develops and maintains information technology strategic planning documents; (3) develops and maintains the CAIHS enterprise architecture; (4) develops and implements information technology management initiatives; (5) ensures IHS information technology infrastructure resource consolidation and standardization efforts support IHS healthcare delivery and program administration; (6) represents the IHS to Federal, Tribal, state, and other organizations; and (7) participates in cross-cutting issues and processes that involve information technology.

Office of Environmental Health & Engineering (GFGAD)

(1) Serves as the principal advisor, advocate, consultant, and technical assistant on all services relating to sanitation facilities construction, environmental health services, operation and maintenance, injury prevention, and facilities management for the CAIHS; (2) plans, coordinates, implements, and evaluates all aspects of Title I contracting and Title V compacting under the Indian Self-Determination and Education Assistance Act, as amended; (3) consults with Tribal groups/organizations in the development and implementation of environmental health and engineering policies and initiatives; (4) provides consultation and technical guidance to Tribal health programs including preventive maintenance surveys, personnel training, and fiscal reviews; (5) performs or directs surveys and investigations to determine the condition of Tribal health facilities; (6) serves as the principal advisor regarding the real property management program which oversees owned and leased real property and General Services Administration (GSA) assigned space; interacts with GSA Region IX and Engineering Services to ensure adequacy of facilities; and (7) coordinates property management activities including space assignments, space need determinations, regulatory compliance, and reporting.

Environmental Health Services Division (GFGAD1)

(1) Maintains relationships with other Federal agencies and Tribes to maximize responses to environmental health issues and maximize benefits to Tribes by coordinating program efforts; (2) identifies environmental health needs of AI/AN populations and supports efforts to build Tribal capacity; (3) provides personnel support services and advocates for environmental health providers; and (4) performs functions related to environmental health programs such as injury prevention, emergency response, water quality, food sanitation, occupational health and safety, solid and hazardous waste management, environmental health issues in health care and non-health care institutions, and vector control.

Sanitation Facilities Construction Division (GFGAD2)

(1) Manages the environmental engineering programs, including the Sanitation Facilities Construction (SFC) program, and compliance activities associated with environmental protection and historic preservation legislation; (2) consults with Tribal groups/organizations in the development and implementation of SFC policies and initiatives, and in the identification of sanitation needs for single family housing and community facilities; and (3) works closely with other Federal agencies to resolve environmental issues and maximize benefits to Tribes by coordinating program efforts.

OEHE District Offices/Field Offices

Redding District Office—GFGAD2A

Arcata Field Office—GFGAD2A1

Sacramento District Office—GFGAD2B

Ukiah Field Office—GFGAD2B1

Clovis Field Office—GFGAD2B2

Escondido District Office—GFGAD2C

(1) Implements the SFC and Environmental Health Services responsibilities; (2) serves as the principal advisor to communities, individuals, contractors, and other organizations on all matters pertaining to SFC and Environmental Health Services; (3) implements activities that assist all health programs to attain accreditation by appropriate accrediting agencies; (4) implements the area fluoridation and operation and maintenance activities, and (5) implements the provision of sanitation facilities for new housing projects sponsored by other government agencies and for existing housing.

Health Facilities Engineering Division (GFGAD3)

(1) Develops, implements, and manages the programs affecting health care facilities operations, including routine maintenance and improvement, real property asset management, realty, facilities environmental, quarters, and clinical engineering programs; (2) serves as the principal resource for coordination of facilities operations and provides consultation to IHS and the Tribes on health care facilities operations; and (3) monitors the improvement, alteration, and repair of health care facilities.

Desert Sage Youth Wellness Center—GFGAE

(1) The Desert Sage Youth Wellness Center in Southern California provides inpatient substance abuse and alcohol treatment to eligible AI/AN youth as a Youth Regional Treatment Center (YRTC) and will help California Tribal youth find healthy directions in life; and (2) in addition to providing treatment services, the YRTC will work with Tribal and urban Indian programs to help provide a continuum of care, including preventive and aftercare services.

Sacred Oaks Healing Center—GFGAF

(1) The Sacred Oaks Healing Center in Northern California provides inpatient substance abuse and alcohol treatment to eligible AI/AN youth as a YRTC and will help California Tribal youth find healthy directions in life; and (2) in addition to providing treatment services, the YRTC will work with Tribal and urban Indian programs to help provide a continuum of care, including preventive and aftercare services.

Dated: October 25, 2016.
Elizabeth A. Fowler,
Deputy Director for Management Operations, Indian Health Service.

[FR Doc. 2016-26488 Filed 11-1-16; 8:45 am]

BILLING CODE 4165-16-P